ENVIRONMENTAL PROTECTION AGENCY

[EPA R9-2020-02; FRL-10003-31-Region 9]

Notice of Proposed Administrative Settlement Agreement for Recovery of Past Response Costs at the North Hollywood Operable Unit of the San Fernando Valley Area 1 Superfund Site in Los Angeles County, California

AGENCY: Environmental Protection Agency (EPA).

ACTION: Notice of proposed settlement; request for public comment.

SUMMARY: In accordance with the Comprehensive Environmental Response, Compensation and Liability Act of 1980, as amended (“CERCLA”), notice is hereby given that the Environmental Protection Agency (“EPA”), has entered into a proposed settlement, embodied in an Administrative Settlement Agreement for Recovery of Past Response Costs (“Settlement Agreement”), with Honeywell International Inc. Under the Settlement Agreement, Honeywell agrees to pay $11,600,000 to reimburse EPA for costs EPA has incurred at the North Hollywood Operable Unit of the San Fernando Valley Area 1 Superfund Site (“NHOU”) and in conjunction with the San Fernando Valley Basin-Wide Remedial Investigation.

DATES: Comments must be received on or before January 21, 2020.

ADDRESSES: The Settlement Agreement is available for public inspection at the United States Environmental Protection Agency, Superfund Records Center, 75 Hawthorne Street, Room 3110, San Francisco, California 94105. Telephone: 415-947-8717. Comments should be addressed to Michael Massey, Assistant Regional Counsel, Office of Regional Counsel (ORC-3), U.S. Environmental Protection Agency, 75 Hawthorne Street, San Francisco, CA 94105; or Email: massey.michael@epa.gov and should reference the NHOU and the EPA Docket Number for the Settlement Agreement, EPA R9-2020-02. EPA's response to any comments received will be available for public inspection at the same address.

FOR FURTHER INFORMATION CONTACT: Michael Massey, Assistant Regional Counsel (ORC-3), Office of Regional Counsel, U.S. EPA Region IX, 75 Hawthorne Street, San Francisco, CA 94105; Email: massey.michael@epa.gov; Phone (415) 972-3034.

SUPPLEMENTARY INFORMATION: Notice of this proposed Settlement Agreement is made in accordance with the Section 122(i) of CERCLA, 42 U.S.C. 9622(i). The Settlement Agreement concerns costs incurred by EPA in connection with the NHOU and the San Fernando Valley Basin-Wide Remedial Investigation, two CERCLA response actions in Los Angeles County, California, where groundwater contamination has come to be located. Honeywell, which agrees to pay EPA $11,600,000, is the only party to the Settlement Agreement. EPA intends to recover its remaining costs from other responsible parties in the future; however, because EPA is not recovering one hundred percent of its past costs at this time, this Settlement Agreement represents a compromise of EPA's costs. The settlement includes a covenant not to sue pursuant to Sections 106 and 107(a) of CERCLA, 42 U.S.C. 9606 and 9607(a).

EPA will consider all comments received on the Settlement Agreement in accordance with the DATES and ADDRESSES sections of this Notice and may modify or withdraw its consent to the Settlement Agreement if comments received disclose facts or considerations that indicate that the settlement is inappropriate, improper, or inadequate.

Dated: December 4, 2019.
Enrique Manzanilla,
Director, Superfund Division, EPA Region 9.

[FR Doc. 2019-27538 Filed 12-19-19; 8:45 am]

BILLING CODE 6560-50-P